DEPARTMENT OF TREASURY

Office of the General Counsel

Appointment of Members of the Legal Division to the Performance Review Board, Internal Revenue Service

Under the authority granted to me as Chief Counsel of the Internal Revenue Service by the General Counsel of the Department of the Treasury by General Counsel Directive 15, pursuant to the Civil Service Reform Act, I have appointed the following persons to the Legal Division Performance Review Board, Internal Revenue Service Panel:

1. Chairperson, Debra K. Moe, Deputy Chief Counsel (Operations)

2. Scott Dinwiddie, Associate Chief Counsel (Income Tax and Accounting)

3. Dustin Starbuck, Associate Chief Counsel (Finance & Management)

4. Mark Kaizen, Associate Chief Counsel (General Legal Services)

5. Barbara Franklin, Deputy Division Counsel (Large Business & International)

Alternate—Marjorie Rollinson, Associate Chief Counsel (International)

Alternate—Joseph Spires, Deputy Division Counsel (Small Business & Self Employed)

This publication is required by 5 U.S.C. 4314(c)(4).

Dated: October 6, 2016.
William J. Wilkins,
Chief Counsel, Internal Revenue Service.

[FR Doc. 2016-24822 Filed 10-13-16; 8:45 am]

BILLING CODE 4830-01-P